DEPARTMENT OF COMMERCE

Patent and Trademark Office

[Docket No.: PTO-C-2015-0054]

National Medal of Technology and Innovation Nomination Evaluation Committee

AGENCY: United States Patent and Trademark Office, Commerce.

ACTION: Notice and request for nominations for the National Medal of Technology and Innovation Nomination Evaluation Committee.

SUMMARY: The Department of Commerce (United States Patent and Trademark Office) is requesting nominations of individuals to serve on the National Medal of Technology and Innovation Nomination Evaluation Committee. The United States Patent and Trademark Office will consider all timely nominations received in response to this notice as well as from other sources.

DATES: To ensure full consideration, nominations must be postmarked, faxed or electronically transmitted no later than October 16, 2015.

ADDRESSES: Nominations must be submitted to, Program Manager, National Medal of Technology and Innovation Program, United States Patent and Trademark Office, P.O. Box 1450, Alexandria, Virginia 22313-1450. Nominations also may be submitted via fax: (571) 273-9821 or by electronic mail to: nmti@uspto.gov.

FOR FURTHER INFORMATION CONTACT: John Palafoutas, Program Manager, National Medal of Technology and Innovation Program, United States Patent and Trademark Office, P.O. Box 1450, Alexandria, Virginia 22313-1450, telephone (571) 272-9821, or electronic mail: nmti@uspto.gov.

SUPPLEMENTARY INFORMATION:

Background

The National Medal of Technology and Innovation Nomination Evaluation Committee was established in accordance with the Federal Advisory Committee Act (FACA) (Title 5, United States Code, Appendix 2). The following provides information about the committee and membership:

• Committee members are appointed by and serve at the discretion of the Secretary of Commerce. The committee provides advice to the Secretary on the implementation of Section 12 of the Stevenson-Wydler Technology Innovation Act of 1980, Public Law 96-480 (15 U.S.C. 3711), as amended by Public Law 110-69, Title I, § 1003, August 9, 2007.

• The committee functions solely as an advisory body under the FACA. Members are appointed to the approximately 12-member committee for a term of three years. At the conclusion of the three-year term, a member may be eligible for appointment to one additional term, pending advisory committee needs. Selection of membership is made in accordance with applicable Department of Commerce guidelines.

• Members are responsible for reviewing nominations and making recommendations for the Nation's highest honor for technological innovation, awarded periodically by the President of the United States. Members of the committee must have an understanding of, and experience in, developing and utilizing technological innovation and/or be familiar with the education, training, employment and management of technological manpower.

• The Department is seeking additional nominations of candidates from small, medium-sized, and large businesses and academia, with expertise in sub-sectors of the technology enterprise, including: Medical Innovations/Bioengineering and Biomedical Technology; Technology Management/Computing/IT/Manufacturing Innovation; Technological Manpower/Workforce Training/Education. Under the FACA, membership on a committee must be balanced in background and expertise. In order to maximize the balance of background and expertise on the current committee, nominations of individuals with backgrounds in the following areas are particularly sought: Computer science, information technology, and medicine.

• Committee members generally are Chief Executive Officers or former Chief Executive Officers; former winners of the National Medal of Technology and Innovation; presidents or distinguished faculty of universities; or senior executives of non-profit organizations. As such, they not only offer the stature of their positions but also possess intimate knowledge of the forces determining future directions for their organizations and industries. The committee as a whole is balanced in representing geographical, professional, and diverse interests.

Nomination Information

• Nominees must be United States citizens, must be able to fully participate in meetings pertaining to the review and selection of finalists for the National Medal of Technology and Innovation, and must uphold the confidential nature of an independent peer review and competitive selection process.

• The United States Patent and Trademark Office is committed to equal opportunity in the workplace and seeks a broad-based and diverse committee membership.

• Committee members are Special Government Employees within the meaning of Section 202 of Title 18, United States Code. Each member will be required to file a confidential financial disclosure form within thirty (30) days of appointment. 5 CFR 2634.201(b).

Dated: September 10, 2015.
Michelle K. Lee,
Under Secretary of Commerce for Intellectual Property and Director of the United States Patent and Trademark Office.

[FR Doc. 2015-23253 Filed 9-15-15; 8:45 am]

BILLING CODE 3510-16-P